FEDERAL COMMUNICATIONS COMMISSION

[FR ID 155924]

Open Commission Meeting Thursday, July 20, 2023

July 13, 2023.

The Federal Communications Commission will hold an Open Meeting on the subjects listed below on Thursday, July 20, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Schools and Libraries Universal Service Support Mechanism (CC Docket No. 02-6); Federal-State Joint Board on Universal Service (CC Docket No. 96-45); Changes to the Board of Directors of the National Exchange Carrier Association, Inc. (CC Docket No. 97-21).
|  | Summary: The Commission will consider a Report and Order and Further Notice of Proposed Rulemaking which would adopt rules to enhance Tribal communities' access to the E-Rate program by streamlining certain program rules, making Tribal college and university libraries eligible for E-Rate support, and reducing administrative burdens in the program. The Commission will also seek comment on ways to further improve and simplify program rules for all E-Rate applicants.
2 | Public Safety and Homeland Security | Title: Ensuring the Reliability and Resiliency of the 988 Suicide & Crisis Lifeline (PS Docket No. 23-5); Amendments to Part 4 of the Commission's Rules Concerning Disruptions to Communications (PS Docket No. 15-80); Implementation of the National Suicide Hotline Improvement Act of 2018 (WC Docket No. 18-336).
|  | Summary: The Commission will consider a Report and Order to ensure that when there is a communications service outage that potentially affects people's ability to reach the 988 Lifeline, the Commission and those who provide life-saving 988 crisis intervention services receive timely and actionable information.
3 | Media | Title: Amendment of Parts 73 and 74 of the Commission's Rules to Establish Rules for Digital Low Power Television and Television Translator Stations (MB Docket No. 03-185).
|  | Summary: The Commission will consider a Report and Order allowing a limited group of existing channel 6 low power television stations to continue to provide analog FM radio service as an ancillary or supplementary service under specified rules.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-15402 Filed 7-19-23; 8:45 am]

BILLING CODE 6712-01-P